DEPARTMENT OF COMMERCE

International Trade Administration

[A-423-602]

Industrial Phosphoric Acid From Belgium: Final Results of Antidumping Duty Administrative Review

AGENCY: Import Administration, International Trade Administration, Department of Commerce.

SUMMARY: On June 26, 2000, the Department of Commerce (“the Department”) published the preliminary results of its administrative review of the antidumping duty order on industrial phosphoric acid from Belgium. See Notice of Preliminary Results of Antidumping Duty Administrative Review: Industrial Phosphoric Acid From Belgium, 65 FR 39355 (June 26, 2000) (“Preliminary Results”). The review covers one manufacturer/exporter of this merchandise to the United States, Societe Chimique Prayon-Rupel S.A. (“Prayon”). The period of review is August 1, 1998, through July 31, 1999. We gave interested parties an opportunity to comment on the Preliminary Results of review but received no comments. Therefore, the final results do not differ from the Preliminary Results of review, in which we found the dumping margin for Prayon to be 0.60 percent.

EFFECTIVE DATE: September 29, 2000.

FOR FURTHER INFORMATION CONTACT: Frank Thomson or Howard Smith, AD/CVD Enforcement, Group II, Office IV, Import Administration, International Trade Administration, U.S. Department of Commerce, 14th Street and Constitution Avenue, NW., Washington, DC 20230; telephone (202) 482-4793, and 482-5193, respectively.

SUPPLEMENTARY INFORMATION:

The Applicable Statute

Unless otherwise indicated, all citations to the Tariff Act of 1930, as amended (“the Act”), are references to the provisions effective January 1, 1995, the effective date of the amendments made to the Act by the Uruguay Rounds Agreements Act (“URAA”). In addition, unless otherwise indicated, all citations to the Department's regulations are to 19 CFR part 351 (1999).

Background

On June 26, 2000, the Department published in the Federal Register (65 FR 39355) the Preliminary Results of the administrative review of the antidumping duty order on industrial phosphoric acid from Belgium for the 98-99 review period. We invited parties to comment on our Preliminary Results or review. We did not receive any interested party comments on our Preliminary Results.

We have now completed the administrative review in accordance with section 751 of the Act and continue to find the dumping margin for Prayon to be 0.60 percent.

Effective January 1, 2000, the Department revoked the antidumping duty order on industrial phosphoric acid from Belgium, pursuant to section 751(d)(2) of the Act and 19 CFR 351.222(i)(1). See Revocation of Antidumping Duty Order: Industrial Phosphoric Acid From Belgium; and Revocation Countervailing Duty Order: Industrial Phosphoric Acid from Israel, 65 FR 37115 (June 13, 2000). Therefore, we will not issue cash deposit instructions to the U.S. Customs Service (“Customs”) based on the results of this review. We have not received any requests to conduct an administrative review for the August 1999 through December 1999 period, and the deadline for such requests has passed. Since the revocation is currently in effect, current and future imports of industrial phosphoric acid from Belgium shall be entered into the United States without regard to antidumping duties. We will instruct Customs to liquidate imports during the August 1999 through December 1999 period as entered. We have already instructed Customs to liquidate all entries as of January 1, 2000 without regard to antidumping duties. This is the notice of the final results in the final review of this antidumping duty order.

Scope of the Review

The products covered by this review include shipments of IPA from Belgium. This merchandise is currently classifiable under the Harmonized Tariff Schedule (“HTS”) item numbers 2809.2000 and 4163.0000. The HTS item numbers are provided for convenience and Customs purposes. The written description remains dispositive.

Analysis of Comments Received

We did not receive any interested party comments on our Preliminary Results. Therefore, there is no Issues and Decision Memorandum for the final results of review.

Final Results of Review

We have determined that no changes to our analysis are warranted for purposes of these final results. As a result of our review, we determine that the following margin exists for the period August 1, 1998, through July 31, 1999.

Exporter/manufacturer | Weighted-average margin percentage
Prayon | 0.60

The Department shall determine, and Customs shall assess, antidumping duties on all appropriate entries. We have calculated an importer-specific duty assessment rate based on the ratio of the total amount of antidumping duties calculated for the importer-specific sales to the total entered value of the same sales. The rate will be assessed uniformly on all entries by that particular importer made during the POR. The Department will issue appraisement instructions directly to Customs.

This notice serves as a final reminder to importers of their responsibility under 19 CFR 351.402(f) to file a certificate regarding the reimbursement of antidumping duties prior to liquidation of the relevant entries during the review period. Failure to comply with this requirement could result in the Secretary's presumption that reimbursement of antidumping duties occurred and the subsequent assessment of doubled antidumping duties.

This notice also serves as a reminder to parties subject to administrative protective order (“APO”) of their responsibility concerning the disposition of proprietary information disclosed under APO in accordance with 19 CFR 351.305. Timely notification of return/destruction of APO materials or conversion to judicial protective order is hereby requested. Failure to comply with the regulations and the terms of an APO is a sanctionable violation.

We are issuing and publishing this determination and notice in accordance with sections 751(a)(1) and 777(i) of the Act.

Dated: September 22, 2000.
Troy H. Cribb,
Acting Assistant Secretary for Import Administration.

[FR Doc. 00-25083 Filed 9-28-00; 8:45 am]

BILLING CODE 3510-DS-M